FEDERAL ELECTION COMMISSION

Sunshine Act Meeting

FEDERAL REGISTER CITATION OF PREVIOUS ANNOUNCEMENT: 84 FR 21777.

PREVIOUSLY ANNOUNCED TIME AND DATE OF THE MEETING: Tuesday, May 21, 2019 at 10:00 a.m. and its continuation at the conclusion of the open meeting on May 23, 2019.

CHANGES IN THE MEETING: This meeting will also discuss: Matters relating to internal personnel decisions, or internal rules and practices.

* * * * *

CONTACT PERSON FOR MORE INFORMATION: Judith Ingram, Press Officer, Telephone: (202) 694-1220.

Laura E. Sinram,
Deputy Secretary of the Commission.

[FR Doc. 2019-10648 Filed 5-17-19; 11:15 am]

BILLING CODE 6715-01-P